DEPARTMENT OF ENERGY

Federal Energy Regulatory Commission

[Docket No. RP02-361-007]

Gulfstream Natural Gas System, L.L.C.; Notice of Compliance Filing

June 25, 2003.

Take notice that on June 18, 2003, Gulfstream Natural Gas System, L.L.C. (Gulfstream) tendered for filing a revised Precedent Agreement between Gulfstream and Florida Power Corporation (FPC).

Gulfstream states that the purpose of this filing is to comply with the order issued by the Commission on June 9, 2003, in Docket Nos. RP02-361-000, et al. (June 9 Order).

Gulfstream states that the instant filing complies with the directives of the June 9 Order by deleting certain provisions from the Precedent Agreement filed in this proceeding.

Gulfstream states that copies of its filing have been mailed to all affected customers, interested state commissions, and all parties listed on the Official Service List compiled by the Secretary of the Commission in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 30, 2003.

Linda Mitry,
Acting Secretary.

[FR Doc. 03-16610 Filed 6-30-03; 8:45 am]

BILLING CODE 6717-01-P